NATIONAL SCIENCE FOUNDATION

Agency Information Collection Activities: Comment Request; NSF Non-Academic Research Internships for Graduate Students (INTERN) Program

AGENCY: National Science Foundation (NSF).

ACTION: Notice and Request for Comments.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by June 3, 2024 to be assured consideration. Comments received after that date will be considered to the extent practicable. Send comments to address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: NSF INTERN Program Assessment.

OMB Number: 3145-0259.

Expiration Date of Approval: 09/30/2024.

Type of Request: Revision to and extension of approval of an information collection.

Abstract: Fostering the growth of a globally competitive and diverse research workforce and advancing the scientific and innovation skills of the Nation is a strategic objective of the National Science Foundation (NSF). The Nation's global competitiveness depends critically on the readiness of the Nation's Science, Technology, Engineering and Mathematics (STEM) workforce and NSF seeks to continue to invest in programs that directly advance this workforce.

As part of this effort, NSF invests in a number of graduate student preparedness activities to ensure they are well-prepared for the 21st century STEM Workforce and a supplemental funding opportunity is available to provide support for graduate students through non-academic research internships (INTERN Program) in any sector of the U.S. economy.

The goal of the INTERN program is three-fold:

1. To provide graduate students with the opportunity to augment their research assistantships with non-academic research internship activities and training opportunities that will complement their academic research training;

2. To allow graduate students to pursue activities aimed at acquiring professional development experience that will enhance their preparation for multiple career pathways after graduation; and

3. To encourage the participation of graduate students from groups that have traditionally been underrepresented and underserved in the STEM enterprise: women, persons with disabilities, African Americans/Blacks, Hispanic Americans, American Indian, and Alaska Natives.

Since 2017, the NSF's INTERN program has expanded with supports from other federal agency partners; as of March 2024, NSF has six (6) INTERN funding opportunities providing participants with direct access in exploring career pathways across various federal agencies and/or government laboratories:

• Non-Academic Research Internships for Graduate Students (INTERN) Supplemental Funding Opportunity (NSF 21-013)

• Research Internships for Graduate Students at Air Force Research Laboratory (NSF-AFRL INTERN) Supplemental Funding Opportunity (NSF 21-029)

• Non-Academic Research Internships for Graduate Students in Geothermal Energy Supplemental Funding Opportunity (Geothermal INTERN) (NSF 23-024)

• Directorate for Geosciences (GEO) Opportunity for Graduate Students Supplemental Funding to Link Geosciences and Human Health (GeoHealth INTERN) (NSF 23-112)

• Graduate Research Internships in Forensic Science and Criminal Justice Contexts (NSF-NIJ INTERN) Supplemental Funding Opportunity (NSF 23-150)

• Research Internships for Graduate Students at U.S. Army Combat Capabilities Development Command Army Research Laboratory and Ground Vehicle Systems Center (NSF-DEVCOM INTERN) Supplemental Funding Opportunity (NSF 24-071)

In order to support the agency's mission and continue meeting the program's goals, we are asking the graduate students who participated in the INTERN program to report the following information on:

• Program Participant

○ Name

○ Academic institution

○ Type of research degree

○ Degree start and expected/conferred dates

○ Primary field of study

○ Demographic information

Sex

Race

Ethnicity

Disability status

Veteran status

• Logistics of the Internship

○ Start and end dates

○ Principal Investigator (supporting the internship)

○ Host organization

Location

Business sector

○ Host mentor

• Internship Experience

○ Primary and secondary work activities

○ Application of academic knowledge/skills learned

○ Hours worked

○ Job Training/skill development

○ Interaction with host mentor and/or other colleagues (professional network)

○ Work environment

○ Company culture

○ Project scope

○ Overall satisfaction

• Industry Best Practices & Skills Development

○ Introducing industry best practices to academic environment

○ Forthcoming publications and/or IP activities resulting from the internship

○ Experiential learning and professional preparation

• Post-graduate/Career Plans

○ General career direction after graduation

○ Helpfulness of the internship experience in making career choices

○ Likelihood of working at the host organization or similar organizations

• Impact of Covid-19 [only for respondents who postponed/delayed their internship due to the pandemic]

○ Hardship/challenges experienced

○ Change(s) in career plan

• General comments/feedback about the Program

Since the agency will not be able to receive feedback from students by way of annual reports, being able to collect this information will help the managing Program Directors to assess whether the INTERN program helps participants in terms of workforce development, career decisions, and professional preparation, thereby ensuring the program goals are met. In addition, these data will also allow NSF to evaluate the intellectual merit of the program, its broader impact in developing the STEM workforce and its potential to enhance the participation of underrepresented and underserved STEM communities in such traineeships. Finally, in compliance with the Evidence Act of 2019, information collected will be used in satisfying congressional requests, responding to queries from the public, informing the NSF's external Committees of Visitors who serve to evaluate the foundation, working with the NSF's Office of the Inspector General, and supporting the agency's policymaking and internal evaluation and assessment needs.

Information collected in this survey will include the name of the participants, their affiliated organizations, email addresses, and home states. These personal identifiable information (PII) are collected primarily for record tracking and organizing. In addition, questions pertaining to participants' gender, race, ethnicity, disability status, and veteran status will also be asked but those questions will be marked as voluntary. These PII data will be accessed only by the managing Program Directors, NSF senior management, and supporting staff conducting analyses using the data as authorized by NSF. Any public reporting of data will be in aggregate form, and any personal identifiers will be removed.

Use of the Information: The information collected is primarily for program assessment and agency internal evaluation.

Estimate burden on the public: Estimated 20 minutes per survey for 350 participants (per year) for a total of 7,000 hours per year.

Respondents: Graduate students who participate in the INTERN program.

Estimated number of respondents: 350 per year.

Average Time per Reporting: 20 minutes.

Frequency: Each participant will only be asked to submit the survey once.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

Dated: March 28, 2024.
Suzanne H. Plimpton,
Reports Clearance Officer, National Science Foundation.

[FR Doc. 2024-06970 Filed 4-1-24; 8:45 am]

BILLING CODE 7555-01-P